DEPARTMENT OF HEALTH AND HUMAN SERVICES

Food and Drug Administration

21 CFR Part 573

[Docket No. FDA-2022-F-0342]

Anitox Corporation; Filing of Food Additive Petition (Animal Use)

AGENCY: Food and Drug Administration, HHS.

ACTION: Notification of petition.

SUMMARY: The Food and Drug Administration (FDA or we) is announcing that we have filed a petition, submitted by Anitox Corporation, proposing that the food additive regulations be amended to provide for the safe use of trans-2-hexenal as a preservative in food for poultry and swine.

DATES: The food additive petition was filed on March 8, 2022.

ADDRESSES: For access to the docket to read background documents or comments received, go to https://www.regulations.gov and insert the docket number found in brackets in the heading of this document into the “Search” box and follow the prompts, and/or go to the Dockets Management Staff, 5630 Fishers Lane, Rm. 1061, Rockville, MD 20852.

FOR FURTHER INFORMATION CONTACT: Carissa Adams, Center for Veterinary Medicine (HFV-221), Food and Drug Administration, 7519 Standish Pl., Rockville, MD 20855, 240-402-6283, Carissa.Adams@fda.hhs.gov.

SUPPLEMENTARY INFORMATION: Under section 409(b)(5) of the Federal Food, Drug, and Cosmetic Act (21 U.S.C. 348(b)(5)), we are giving notice that we have filed a food additive petition (FAP 2315), submitted by Anitox Corporation, 1055 Progress Circle, Lawrenceville, GA 30043-4646. The petition proposes to amend 21 CFR part 573—Food Additives Permitted in Feed and Drinking Water of Animals to provide for the safe use of trans-2-hexenal as a preservative in food for poultry and swine.

The petitioner has claimed that this action is categorically excluded under 21 CFR 25.32(r) because it is of a type that does not individually or cumulatively have a significant effect on the human environment. In addition, the petitioner has stated that, to their knowledge, no extraordinary circumstances exist that may significantly affect the quality of the human environment. If FDA determines a categorical exclusion applies, neither an environmental assessment nor an environmental impact statement is required. If FDA determines a categorical exclusion does not apply, we will request an environmental assessment and make it available for public inspection.

Dated: April 4, 2022.
Lauren K. Roth,
Associate Commissioner for Policy.

[FR Doc. 2022-07683 Filed 4-8-22; 8:45 am]

BILLING CODE 4164-01-P